DEPARTMENT OF JUSTICE

Notice of Lodging of Consent Decree Pursuant to the Comprehensive Environmental Response, Compensation, and Liability Act (“CERCLA”)

Under 28 CFR 50.7, notice is hereby given that on April 15, 2003, a proposed consent decree in United States v. Quemetco Metals Limited, Inc., et al., Civil Action No. 3-01CV0924-D has been lodged with the United States District Court for the Northern District of Texas, Dallas Division. The consent decree settles an action brought under section 107 of the Comprehensive Environmental Response, Compensation, and Liability Act (“CERCLA”), 42 U.S.C. 9607, for reimbursement of response costs incurred and to be incurred by the United States in responding to releases and threats of releases of hazardous substances from the RSR Corporation Superfund Site located in Dallas, Texas. Under the terms of the Consent Decree, Quemetco Metals Limited, Inc., Quemetco, Inc., and RSR Corporation (“Settling Defendants”) have agreed to perform work at the Site valued at $11.6 million and to reimburse response costs incurred by the United States in the amount of $13.25 million and by the State of Texas in the amount of $870,000.

For a period of 30 days from the date of this publication, the Department of Justice will receive written comments relating to the proposed consent decree from persons who are not parties to the action. Comments should be addressed to the Assistant Attorney General, Environment and Natural Resources Division, U.S. Department of Justice, Washington, DC 20530, and should refer to United States v. Quemetco Metals Limited, Inc., et al., DOJ #90-11-3-1613/3.

The proposed consent decree may be examined at the offices of the United States Attorney for the Northern District of Texas, Dallas Division, 1100 Commerce St., Third Floor, Dallas, Texas 75242, and at the office of the United States Environmental Protection Agency, Region VI, 1445 Ross Avenue, Dallas, Texas 75202 (Attention: Mike Barra, Assistant Regional Counsel). During the public comment period, the proposed consent decree may also be examined on the following Department of Justice Web site, http://www.usdoj.gov/enrd/open.html. A copy of the proposed consent decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy exclusive of exhibits, please enclose a check in the amount of $21.50 (25 cents per page reproduction cost without exhibits) payable to the U.S. Treasury.

Catherine McCabe,
Deputy Section Chief, Environmental Enforcement Section, Environment and Natural Resources Division.

[FR Doc. 03-10079 Filed 4-23-03; 8:45 am]

BILLING CODE 4410-15-M